DEPARTMENT OF ENERGY

National Nuclear Security Administration (NNSA)

Advisory Committee for Nuclear Security; Notice of Renewal

AGENCY: Office of Defense Programs, National Nuclear Security Administration, Department of Energy.

ACTION: Notice of renewal.

SUMMARY: Pursuant to the Federal Advisory Committee Act, and following consultation with the Committee Management Secretariat, General Services Administration, notice is hereby given that the charter for the Defense Programs Advisory Committee (DPAC) will undergo a major amendment and DPAC will be renamed the Advisory Committee for Nuclear Security (ACNS or the Committee). The charter is being renewed for a two-year period.

SUPPLEMENTARY INFORMATION: The ACNS will provide advice and recommendations to the Department of Energy's Under Secretary for Nuclear Security and Administrator of the National Nuclear Security Administration (NNSA) on the activities and operations of the NNSA, including but not limited to, the stewardship, governance, and maintenance of the Nation's nuclear deterrent; nuclear security; nonproliferation; counterterrorism; counterproliferation; and nuclear incident and accident response.

The renewal of the Committee has been deemed essential to the conduct of the Department's business and in the public interest in conjunction with the performance of duties imposed upon the Department of Energy by law and agreement. The Committee will operate in accordance with the provisions of the Federal Advisory Committee Act and the rules and regulations in implementation of that Act.

FOR FURTHER INFORMATION CONTACT: Watti Hill, Office of Defense Programs at (202) 586-8266; email: watti.hill@nnsa.doe.gov.

Signing Authority

This document of the Department of Energy (DOE) was signed on February 3, 2023, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on February 3, 2022.
Treena V. Garrett,
Federal Register Liaison Officer, U.S. Department of Energy.

[FR Doc. 2023-02658 Filed 2-7-23; 8:45 am]

BILLING CODE 6450-01-P